DEPARTMENT OF TRANSPORTATION

Federal Aviation Administration

14 CFR Part 39

[Docket No. FAA-2011-1093; Directorate Identifier 2010-NM-149-AD]

RIN 2120-AA64

Airworthiness Directives; The Boeing Company Model 757 Airplanes

AGENCY: Federal Aviation Administration (FAA), DOT.

ACTION: Notice of proposed rulemaking (NPRM).

SUMMARY: We propose to adopt a new airworthiness directive (AD) for the products listed above. This proposed AD would require repetitive detailed inspections for discrepancies of the horizontal stabilizer ballscrew assembly; repetitive lubrication of the horizontal stabilizer trim control system; repetitive measurements for discrepancies of the ballscrew to ballnut freeplay; and corrective actions if necessary. This proposed AD was prompted by a report of extensive corrosion of the ballscrew of the drive mechanism of the horizontal stabilizer trim actuator. We are proposing this AD to prevent undetected failure of the primary and secondary load paths for the ballscrew in the horizontal stabilizer, which could lead to loss of control of the horizontal stabilizer and consequent loss of control of the airplane.

DATES: We must receive comments on this proposed AD by December 9, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Kelly McGuckin, Aerospace Engineer, Systems and Equipment Branch, ANM-130S, FAA, Seattle Airplane Certification Office, 1601 Lind Avenue, SW., Renton, Washington 98057-3356; telephone (425) 917-6490; fax (425) 917-6590.

SUPPLEMENTARY INFORMATION:

Comments Invited

We invite you to send any written relevant data, views, or arguments about this proposed AD. Send your comments to an address listed under the ADDRESSES section. Include “Docket No. FAA-2011-1093; Directorate Identifier 2010-NM-149-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received a report of extensive corrosion of the ballscrew of the drive mechanism of the horizontal stabilizer trim actuator (HSTA). Boeing previously initiated a design review and safety analysis of the ballscrews used on all Model 757 airplanes as a result of an MD-80 airplane accident which occurred in January 2000. The cause of that accident was attributed to an in-flight failure of the horizontal stabilizer jackscrew assembly caused by inadequate maintenance. Jackscrews and ballscrews are similar in function and have similar airplane level failure modes. During this review a Model 757 airplane operator reported the subject corrosion. This condition, if not corrected, could result in undetected failure of the primary and secondary load paths for the ballscrew in the horizontal stabilizer, which could lead to loss of control of the horizontal stabilizer and consequent loss of control of the airplane.

Relevant Service Information

We have reviewed Boeing Alert Service Bulletins 757-27A0144 (for Model 757-200, -200CB, and 200PF series airplanes) and 757-27A0145 (for Model 757-300 series airplanes), both Revision 1, both dated January 20, 2010. These service bulletins describe procedures for repetitive detailed inspections for discrepancies of the horizontal stabilizer ballscrew assembly (including but not limited to, damage, cracking, corrosion, or wear); repetitive lubrication of the horizontal stabilizer trim control system; and repetitive measurements of the ballscrew to ballnut freeplay for discrepancies.

We have also reviewed Subject 27-41-10, “Stabilizer Trim Ballscrew Freeplay,” of Chapter 27, “Flight Controls,” of the Boeing 757 Airplane Maintenance Manual (AMM), Revision 101, dated May 20, 2011, which describes procedures for accomplishing the subject inspections and freeplay measurements, and applicable corrective actions.

FAA's Determination and Requirements of This Proposed AD

We are proposing this AD because we evaluated all relevant information and determined the unsafe condition described previously is likely to exist or develop in other products of the same type design. This proposed AD would require accomplishing the actions specified in the service information described previously, except as discussed under “Differences Between the Proposed AD and the Service Information.”

Differences Between the Proposed AD and the Service Information

Boeing Alert Service Bulletins 757-27A0144 and 757-27A0145, both Revision 1, both dated January 20, 2010, do not specify corrective actions for airplanes on which the measured freeplay is less than .004 inch and the freeplay check was done correctly. However, this proposed AD requires corrective action that includes replacement of the HSTA before further flight with a new or overhauled HSTA, if the freeplay measurement is less then 0.002 inch. No action is required for freeplay measurements greater then or equal to 0.002 inch but less then 0.004 inch after verifying the measurement was performed correctly.

Boeing Alert Service Bulletins 757-27A0144 and 757-27A0145, both Revision 1, both dated January 20, 2010, do not specify conditions for replacing the HSTA if that replacement is necessary as corrective action. This proposed AD requires any replacement HSTA be new or overhauled if replaced as corrective action. Any replacement HSTA that is not new or overhauled must be inspected before further flight in accordance with the requirements of this proposed AD.

Boeing Alert Service Bulletins 757-27A0144 and 757-27A0145, both Revision 1, both dated January 20, 2010, do not give credit for airplanes on which the HSTA ballscrews were overhauled after removing the HSTA from the airplane as part of a “hard-time” replacement program. The proposed AD includes credit for airplanes on which any HSTA is overhauled before the effective date of this AD, or within the compliance time specified in paragraph (g), (h), or (i) of this AD, as applicable, as part of a “hard-time” replacement program that includes removal of the HSTA from the airplane and overhaul of the stabilizer ballscrew using original equipment manufacturer instructions. Therefore, any such HSTA is considered acceptable for compliance with the initial accomplishment of the actions specified in paragraphs (g), (h), and (i) of this AD, as applicable, and the repeat interval for those actions may be determined from the performance date of that overhaul.

Boeing Alert Service Bulletins 757-27A0144 and 757-27A0145, both Revision 1, both dated January 20, 2010, do not specify the initial compliance times for airplanes on which the detailed inspection or lubrication tasks have not been performed; however, this proposed AD provides those compliance times.

Boeing Alert Service Bulletins 757-27A0144 and 757-27A0145, both Revision 1, both dated January 20, 2010, specify the initial compliance time for the stabilizer ballscrew to ballnut freeplay check for Group 1, Configuration 1, and Group 1, Configuration 3 airplanes based on total flight hours, within 18 months from the date of Boeing Alert Service Bulletins 757-27A0144 and 757-27A0145, both Revision 1, both dated January 20, 2010. This proposed AD requires the initial freeplay check before the accumulation of 15,000 total flight hours, or within 18 months after the effective date of this AD, whichever occurs later.

We have coordinated the differences discussed above with Boeing.

Costs of Compliance

We estimate that this proposed AD would affect 730 airplanes of U.S. registry. We also estimate that it would take about 13 work-hours per product to comply with this proposed AD. The average labor rate is $85 per work-hour. Based on these figures, we estimate the cost of this proposed AD to the U.S. operators to be $806,650, or $1,105 per product.

We estimate that it would take about 26 work-hours to do any HSTA replacement that would be required based on the results of the proposed inspection. We have no way of determining the number of aircraft that might need these replacements. The average labor rate is $85 per work-hour. Based on these figures, we estimate the cost of this proposed replacement to the U.S. operators to be $2,210 per product; excluding parts cost, which varies depending on airplane configuration.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

The Boeing Company: Docket No. FAA-2011-1093; Directorate Identifier 2010-NM-149-AD.

Comments Due Date

(a) We must receive comments by December 9, 2011.

Affected ADs

(b) None.

Applicability

(c) This AD applies to all The Boeing Company Model 757-200, -200PF, -200CB, and -300 series airplanes, certificated in any category.

Subject

(d) Joint Aircraft System Component (JASC)/Air Transport Association (ATA) of America Code 27: Flight Controls.

Unsafe Condition

(e) This AD was prompted by a report of extensive corrosion of the ballscrew of the drive mechanism of the horizontal stabilizer trim actuator (HSTA). We are issuing this AD to prevent undetected failure of the primary and secondary load paths for the ballscrew in the horizontal stabilizer, which could lead to loss of control of the horizontal stabilizer and consequent loss of control of the airplane.

Compliance

(f) You are responsible for having the actions required by this AD performed within the compliance times specified, unless the actions have already been done.

Group 1, Configuration 1 Airplanes—Repetitive Inspections, Lubrications, Freeplay Checks

(g) For Group 1, Configuration 1 airplanes identified in Boeing Alert Service Bulletin 757-27A0144 (for Model 757-200, -200CB, and 200PF series airplanes) or 757-27A0145 (for Model 757-300 series airplanes), Revision 1, dated January 20, 2010, that have accumulated 15,000 total flight cycles or fewer as of the effective date of this AD: Do the actions required by paragraph (g)(1) or (g)(2) of this AD, as applicable, and do the actions required by paragraph (g)(3) or (g)(4) of this AD, as applicable, and do the actions required by paragraph (g)(5) of this AD, at the times specified in those paragraphs, and in accordance with the Accomplishment Instructions of Boeing Alert Service Bulletin 757-27A0144 (for Model 757-200, -200CB, and -200PF series airplanes) or 757-27A0145 (for Model 757-300 series airplanes), Revision 1, dated January 20, 2010.

(1) For airplanes on which a detailed inspection of the horizontal stabilizer ballscrew assembly specified in Boeing Alert Service Bulletin 757-27A0144 or 757-27A0145, dated August 7, 2003; or Revision 1, dated January 20, 2010; has been done as of the effective date of this AD: Do a detailed inspection for discrepancies of the horizontal stabilizer ballscrew assembly at the later of the times specified in paragraphs (g)(1)(i) and (g)(1)(ii) of this AD. Repeat the inspection thereafter at intervals not to exceed 3,500 flight hours or 2 years, whichever occurs first.

(i) Within 3,500 flight hours or 2 years after doing the most recent detailed inspection of the horizontal stabilizer ballscrew assembly, whichever occurs first.

(ii) Within 6 months after the effective date of this AD.

(2) For airplanes on which a detailed inspection of the horizontal stabilizer ballscrew assembly specified in Boeing Alert Service Bulletin 757-27A0144 or 757-27A0145, dated August 7, 2003; or Revision 1, dated January 20, 2010; has not been done as of the effective date of this AD: Do a detailed inspection for discrepancies of the horizontal stabilizer ballscrew assembly within 3,500 flight hours or 2 years after the effective date of this AD, whichever occurs first. Repeat the inspection thereafter at intervals not to exceed 3,500 flight hours or 2 years, whichever occurs first.

(3) For airplanes on which the lubrication of the horizontal stabilizer trim control system specified in Boeing Alert Service Bulletin 757-27A0144 or 757-27A0145, dated August 7, 2003; or Revision 1, dated January 20, 2010; has been done as of the effective date of this AD: Lubricate the horizontal stabilizer trim control system at the later of the times specified in paragraphs (g)(3)(i) and (g)(3)(ii) of this AD. Repeat the lubrication thereafter at intervals not to exceed 2,000 flight hours or 1 year, whichever occurs first.

(i) Within 2,000 flight hours or 1 year after doing the most recent lubrication of the horizontal stabilizer trim control system, whichever occurs first.

(ii) Within 6 months after the effective date of this AD.

(4) For airplanes on which the lubrication of the horizontal stabilizer trim control system specified in Boeing Alert Service Bulletin 757-27A0144 or 757-27A0145, dated August 7, 2003; or Revision 1, dated January 20, 2010; has not been done as of the effective date of this AD: Lubricate the horizontal stabilizer trim control system within 2,000 flight hours or 1 year after the effective date of this AD, whichever occurs first. Repeat the lubrication thereafter at intervals not to exceed 2,000 flight hours or 1 year, whichever occurs first.

(5) Do the stabilizer ballscrew to ballnut freeplay check for discrepancies at the later of the times specified in paragraphs (g)(5)(i) and (g)(5)(ii) of this AD. Repeat the freeplay check thereafter at intervals not to exceed 18,000 flight hours or 5 years, whichever occurs first.

(i) Before the accumulation of 15,000 total flight hours.

(ii) Within 18 months after the effective date of this AD.

Group 1, Configuration 2 Airplanes—Repetitive Inspections, Lubrications, Freeplay Checks

(h) For Group 1, Configuration 2 airplanes identified in Boeing Alert Service Bulletin 757-27A0144 (for Model 757-200, -200CB, and 200PF series airplanes) or 757-27A0145 (for Model 757-300 series airplanes), Revision 1, dated January 20, 2010, that have accumulated more than 15,000 total flight cycles as of the effective date of this AD: Do the actions required by paragraph (h)(1) or (h)(2) of this AD, as applicable, and do the actions required by paragraph (h)(3) or (h)(4) of this AD, as applicable, and do the actions required by paragraph (h)(5) of this AD, at the times specified in those paragraphs, and in accordance with the Accomplishment Instructions of Boeing Alert Service Bulletin 757-27A0144 (for Model 757-200, -200CB, and 200PF series airplanes) or 757-27A0145 (for Model 757-300 series airplanes), Revision 1, dated January 20, 2010.

(1) For airplanes on which a detailed inspection of the horizontal stabilizer ballscrew assembly specified in Boeing Alert Service Bulletin 757-27A0144 or 757-27A0145, dated August 7, 2003; or Revision 1, dated January 20, 2010; has been done as of the effective date of this AD: Do a detailed inspection for discrepancies of the horizontal stabilizer ballscrew assembly at the later of the times specified in paragraphs (h)(1)(i) and (h)(1)(ii) of this AD. Do the inspection thereafter at intervals not to exceed 3,500 flight hours or 2 years, whichever occurs first.

(i) Within 3,500 flight hours or 18 months after doing the most recent detailed inspection of the stabilizer ballscrew assembly, whichever occurs first.

(ii) Within 6 months after the effective date of this AD.

(2) For airplanes on which a detailed inspection of the horizontal stabilizer ballscrew assembly specified in Boeing Alert Service Bulletin 757-27A0144 or 757-27A0145, dated August 7, 2003; or Revision 1, dated January 20, 2010; has not been done as of the effective date of this AD: Do a detailed inspection for discrepancies of the horizontal stabilizer ballscrew assembly within 3,500 flight hours or 18 months after the effective date of this AD, whichever occurs first. Do the inspection thereafter at intervals not to exceed 3,500 flight hours or 2 years, whichever occurs first.

(3) For airplanes on which the lubrication of the horizontal stabilizer trim control system specified in Boeing Alert Service Bulletin 757-27A0144 or 757-27A0145, dated August 7, 2003; or Revision 1, dated January 20, 2010; has been done as of the effective date of this AD: Lubricate the horizontal stabilizer trim control system at the later of the times specified in paragraphs (h)(3)(i) and (h)(3)(ii) of this AD. Do the lubrication thereafter at intervals not to exceed 2,000 flight hours or 1 year, whichever occurs first.

(i) Within 2,000 flight hours or 1 year after doing the most recent lubrication of the horizontal stabilizer trim control system, whichever occurs first.

(ii) Within 6 months after the effective date of this AD.

(4) For airplanes on which the lubrication of the horizontal stabilizer trim control system specified in Boeing Alert Service Bulletins 757-27A0144 or 757-27A0145, dated August 7, 2003; or Revision 1, dated January 20, 2010; has not been done as of the effective date of this AD: Lubricate the horizontal stabilizer trim control system within 2,000 flight hours or 1 year after the effective date of this AD, whichever occurs first. Do the lubrication thereafter at intervals not to exceed 2,000 flight hours or 1 year, whichever occurs first.

(5) Do the stabilizer ballscrew to ballnut freeplay check for discrepancies within 18 months after the effective date of this AD. Repeat the freeplay check thereafter at intervals not to exceed 18,000 flight hours or 5 years, whichever occurs first.

Group 1, Configuration 3 Airplanes—Repetitive Inspections, Lubrications, Freeplay Checks

(i) For Group 1, Configuration 3 airplanes identified in Boeing Alert Service Bulletin 757-27A0144 (for Model 757-200, -200CB, and 200PF series airplanes) or 757-27A0145 (for Model 757-300 series airplanes), Revision 1, dated January 20, 2010: Do the actions required by paragraph (i)(1) or (i)(2) of this AD, as applicable, and do the actions required by paragraph (i)(3) or (i)(4) of this AD, as applicable, and do the actions required by paragraph (i)(5) of this AD, at the time specified in those paragraphs, and in accordance with the Accomplishment Instructions of Boeing Alert Service Bulletin 757-27A0144 (for Model 757-200, -200CB, and 200PF series airplanes) or 757-27A0145 (for Model 757-300 series airplanes), Revision 1, dated January 20, 2010.

(1) For airplanes on which a detailed inspection of the horizontal stabilizer ballscrew assembly specified in the Accomplishment Instructions of Boeing Alert Service Bulletin 757-27A0144 or 757-27A0145, dated August 7, 2003; or Revision 1, dated January 20, 2010; has been done as of the effective date of this AD: Do a detailed inspection for discrepancies of the stabilizer ballscrew assembly at the later of the times specified in paragraphs (h)(1)(i) and (h)(1)(ii) of this AD. Do the inspection thereafter at intervals not to exceed 3,500 flight hours or 2 years, whichever occurs first.

(i) Within 3,500 flight hours or 2 years after doing the most recent detailed inspection of the stabilizer ballscrew assembly, whichever occurs first.

(ii) Within 6 months after the effective date of this AD.

(2) For airplanes on which a detailed inspection of the horizontal stabilizer ballscrew assembly specified in Boeing Alert Service Bulletin 757-27A0144 or 757-27A0145, dated August 7, 2003; or Revision 1, dated January 20, 2010; has not been done as of the effective date of this AD: Do a detailed inspection for discrepancies of the stabilizer ballscrew assembly at the later of the times in paragraph (i)(2)(i) or (i)(2)(ii) of this AD. Repeat the inspection thereafter at intervals not to exceed 3,500 flight hours or 2 years, whichever occurs first.

(i) Within 3,500 flight hours or 2 years, whichever occurs first, after accomplishing an overhaul specified in Boeing Alert Service Bulletin 757-27A0142, Revision 2, dated October 23, 2003; or Boeing Alert Service Bulletin 757-27A0143, Revision 1, dated October 23, 2003.

(ii) Within 6 months after the effective date of this AD.

(3) For airplanes on which the lubrication of the horizontal stabilizer trim control system specified in Boeing Alert Service Bulletin 757-27A0144 or 757-27A0145, dated August 7, 2003; or Revision 1, dated January 20, 2010; has been done as of the effective date of this AD: Lubricate the horizontal stabilizer trim control system at the later of the times specified in paragraphs (i)(3)(i) and (i)(3)(ii) of this AD. Do the lubrication thereafter at intervals not to exceed 2,000 flight hours or 1 year, whichever occurs first.

(i) Within 2,000 flight hours or 1 year after doing the most recent lubrication of the horizontal stabilizer trim control system, whichever occurs first.

(ii) Within 6 months after the effective date of this AD.

(4) For airplanes on which the lubrication of the horizontal stabilizer trim control system specified in Boeing Alert Service Bulletin 757-27A0144 or 757-27A0145, dated August 7, 2003; or Revision 1, dated January 20, 2010; has not been done as of the effective date of this AD: Lubricate the horizontal stabilizer trim control system at the later of the times specified in paragraphs (i)(4)(i) and (i)(4)(ii) of this AD. Do the lubrication thereafter at intervals not to exceed 2,000 flight hours or 1 year, whichever occurs first.

(i) Within 2,000 flight hours or 1 year, whichever occurs first, after accomplishing an overhaul specified in Boeing Alert Service Bulletin 757-27A0142, Revision 2, dated October 23, 2003; or Boeing Alert Service Bulletin 757-27A0143, Revision 1, dated October 23, 2003.

(ii) Within 6 months after the effective date of this AD.

(5) Do the stabilizer ballscrew to ballnut freeplay check for discrepancies at the later of the times specified in paragraph (i)(5)(i) or (i)(5)(ii) of this AD. Repeat the freeplay check thereafter at intervals not to exceed 18,000 flight hours or 5 years, whichever occurs first.

(i) Before the accumulation of 15,000 total flight hours after accomplishing an overhaul specified in Boeing Alert Service Bulletin 757-27A0142, Revision 2, dated October 23, 2003; or Boeing Alert Service Bulletin 757-27A0143, Revision 1, dated October 23, 2003.

(ii) Within 18 months after the effective date of this AD.

Corrective Actions

(j) If any discrepancy is found during any action required by paragraph (g), (h), or (i) of this AD: Before further flight, do the replacement specified in paragraph (j)(1) or (j)(2) of this AD, in accordance with Subject 27-41-10, “Stabilizer Trim Ballscrew Freeplay,” of Chapter 27, “Flight Controls,” of the Boeing 757 Airplane Maintenance Manual (AMM), Revision 101, dated May 20, 2011; except as provided by paragraph (k) of this AD.

(1) Replace the HSTA with a new or overhauled HSTA.

(2) Replace the HSTA with a HSTA that is not new or overhauled on which a detailed inspection, freeplay measurement, and lubrication of that actuator are performed in accordance with paragraph (g), (h), or (i) of this AD, as applicable, and no discrepancies are found during the inspection and freeplay measurement.

(k) No action is required if a freeplay measurement greater then or equal to 0.002 inch but less than 0.004 inch is found and the measurement is verified that it was performed correctly. This AD requires HSTA replacement, as specified in paragraph (j) of this AD, if a freeplay measurement less then 0.002 inch is found.

Note 1: Additional guidance for the verification of the measurement can be found in Subject 27-41-10, “Stabilizer Trim Ballscrew Freeplay,” of Chapter 27, “Flight Controls,” of the Boeing 757 Airplane Maintenance Manual (AMM), Revision 101, dated May 20, 2011.

Credit for Hard-Time Replacement of HSTA

(l) Any HSTA overhauled before the effective date of this AD, or within the compliance time specified in paragraph (g), (h), or (i) of this AD, as applicable—as part of a “hard-time” replacement program that includes removal of the HSTA from the airplane and overhaul of the stabilizer ballscrew in accordance with original equipment manufacturer component maintenance manual instructions—meets the intent of one detailed inspection, one freeplay inspection, and one lubrication of the HSTA as specified in paragraph (g), (h), or (i) of this AD; and therefore, is considered acceptable for compliance with the initial accomplishment of the actions specified in paragraphs (g), (h), and (i) of this AD, as applicable, and the repeat interval for those actions may be determined from the performance date of that overhaul.

Parts Installation

(m) As of the effective date of this AD, no person may install, on any airplane, a horizontal stabilizer trim actuator that is not new or overhauled; unless a detailed inspection, freeplay measurement, and lubrication of that actuator are performed in accordance with paragraph (g), (h), or (i) of this AD, as applicable, and no discrepancies are found during the inspection and freeplay measurement.

Alternative Methods of Compliance (AMOCs)

(n)(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be e-mailed to: 9-ANM-Seattle-ACO-AMOC-Requests@faa.gov.

(2) Before using any approved AMOC, notify your appropriate principal inspector, or lacking a principal inspector, the manager of the local flight standards district office/certificate holding district office.

Related Information

(o) For more information about this AD, contact Kelly McGuckin, Aerospace Engineer, Systems and Equipment Branch, ANM-130S, Seattle ACO, 1601 Lind Avenue, SW., Renton, Washington 98057-3356; telephone (425) 917-6490; fax (425) 917-6590; e-mail: kelly.mcguckin@faa.gov.

(p) For service information identified in this AD, contact Boeing Commercial Airplanes, Attention: Data & Services Management, P.O. Box 3707, MC 2H-65, Seattle, WA 98124-2207; telephone 206-544-5000, extension 1; fax 206-766-5680; e-mail me.boecom@boeing.com; Internet https://www.myboeingfleet.com. You may review copies of the referenced service information at the FAA, Transport Airplane Directorate, 1601 Lind Avenue, SW., Renton, Washington 98057-3356. For information on the availability of this material at the FAA, call 425-227-1221.

Issued in Renton, Washington, on October 13, 2011.
Ali Bahrami,
Manager, Transport Airplane Directorate, Aircraft Certification Service.

[FR Doc. 2011-27484 Filed 10-24-11; 8:45 am]

BILLING CODE 4910-13-P